DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Pacific Halibut & Sablefish Fisheries: Individual Fishing Quota Cost Recovery Program.

OMB Control Number: 0648-0398.

Form Number(s): None.

Type of Request: Regular (extension of a currently approved information collection).

Number of Respondents: 2,184.

Average Hours per Response: IFQ Registered Buyer Ex-vessel Value and Volume Report, 13 hours; IFQ Registered Buyer Ex-vessel Value and Volume Report, 2 hours if on paper, 5 minutes if online.

Burden Hours: 240.

Needs and Uses: This request is for extension of a currently approved information collection. The purpose of the IFQ fee is to recover actual costs incurred in managing and enforcing the IFQ Program (75%) and to make funds available for Congress to appropriate for support of the North Pacific IFQ Loan Program (25%).

An IFQ permit holder incurs a cost recovery fee liability for every pound of IFQ halibut and IFQ sablefish that is landed under his or her IFQ permit(s). The IFQ permit holder is responsible for self-collecting the fee liability for all IFQ halibut and IFQ sablefish landings on his or her permit(s). Fees must be collected at the time of a legal landing of halibut or sablefish, filing of a landing report, or sale of such fish during a fishing season or in the last quarter of the calendar year in which the fish is harvested.

Affected Public: Business or other for-profit organizations; individuals or households.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 13, 2015.
Sarah Brabson,
NOAA PRA Clearance Officer.

[FR Doc. 2015-20331 Filed 8-17-15; 8:45 am]

BILLING CODE 3510-22-P